DEPARTMENT OF TRANSPORTATION

Federal Highway Administration

Integrated Corridor Management Deployment Planning Grants

AGENCY: Federal Highway Administration (FHWA), DOT.

ACTION: Notice; Request for applications.

SUMMARY: This notice invites States, Metropolitan Planning Organizations (MPO), and local governments that intend to initiate or continue Integrated Corridor Management (ICM) development with their partners, such as arterial management agencies, tolling authorities, and transit authorities, to apply for deployment planning grants. The Moving Ahead for Progress in the 21st Century Act (MAP-21) authorized the FHWA to encourage Intelligent Transportation Systems (ITS) deployment on the national highway system through demonstrations and grant programs. The purpose of this program is to promote the integrated management and operations of the transportation system, thereby improving multimodal transportation system management and operations.

This notice seeks applications for available funding for this program. This funding will be provided to cover a maximum of 80 percent of each proposed program/project. Total costs of each proposed program/project should not exceed $200,000. Up to 10 awards are anticipated, but not guaranteed.

Optional phase two: FHWA has the discretion to award additional funding to successful applicants to further advance their ICM concepts within the context of ICM deployment beyond the initial work product delivered.

DATES: Formal applications must be submitted no later than December 31, 2013 to be assured consideration. Applications should be submitted through http://www.grants.gov.

FOR FURTHER INFORMATION CONTACT: For questions about the program discussed herein, contact Mr. Robert Sheehan, FHWA Office of Transportation Management, (202) 366-6817, or via email at Robert.Sheehan@dot.gov, or Mr. Brian Cronin, Team Leader, Research, Research and Innovative Technology Administration (RITA) ITS-Joint Program Office, (202) 366-8841 or via email at Brian.Cronin@dot.gov. For legal questions, please contact Adam Sleeter, Attorney Advisor, FHWA Office of the Chief Counsel, (202) 366-8839, or via email at adam.sleeter@dot.gov. Business hours for the FHWA are from 8:00 a.m., e.t., to 4:30 p.m., e.t., Monday through Friday, except Federal holidays.

SUPPLEMENTARY INFORMATION:

Electronic Access

An electronic copy of this document may be downloaded from the Federal Register's home page at: http://www.federalregister.gov.

Additional Information on Applying Through Grants.gov

Applications for ICM Deployment Planning Grants would be submitted through Grants.gov. To apply for funding through Grants.gov, applicants must be properly registered. Complete instructions on how to register and apply can be found at www.grants.gov. If interested parties experience difficulties at any point during registration or application process, they should call the Grants.gov Customer Support Hotline at 1-800-518-4726, Monday-Friday from 7:00 a.m. to 9:00 p.m. e.t.

Registering with Grants.gov is a one-time process; however, processing delays may occur and it can take up to several weeks for first-time registrants to receive confirmation and a user password. Accordingly, FHWA highly recommends that potential applicants start the registration process as early as possible to prevent delays that may preclude submitting an application by the deadlines specified. Applications will not be accepted after the relevant due date; delayed registration is not an acceptable reason for extensions. In order to apply for ICM Deployment Planning Grants under this announcement and to apply for funding through Grants.gov, all applicants are required to complete the following:

1. Acquire a Data Universal Numbering System (DUNS) number. A DUNS number is required for Grants.gov registration. The Office of Management and Budget requires that all applicants for Federal funds include a DUNS number in their applications for a new award or renewal of an existing award. A DUNS number is a unique nine-digit sequence recognized as the universal standard for identifying and keeping track of entities receiving Federal funds. The identifier is used for tracking purposes and to validate address and point of contact information for Federal assistance applicants, recipients, and sub-recipients. The DUNS number will be used throughout the grant life cycle. Obtaining a DUNS number is a free, one-time activity that can be completed by calling 1-866-705-5711 or by applying online at http://fedgov.dnb.com/webform.

2. Acquire or Renew Registration with the Central Contractor Registration (CCR) Database. All applicants for Federal financial assistance maintain current registrations in the CCR database. An applicant must be registered in the CCR to successfully register in Grants.gov. The CCR database is the repository for standard information about Federal financial assistance applicants, recipients, and sub-recipients. Entities that have previously submitted applications via Grants.gov are already registered with CCR, as it is a requirement for Grants.gov registration. Please note, however, that applicants must update or renew their CCR registration at least once per year to maintain an active status, so it is critical to check registration status well in advance of relevant application deadlines. Information about CCR registration procedures can be accessed at: https://www.sam.gov/portal/public/SAM/.

3. Acquire an Authorized Organization Representative (AOR) and a Grants.gov Username and Password. Applicants will need to complete an AOR profile on Grants.gov and create a username and password. The assigned DUNS Number is required to complete this step. For more information about the registration process, go to: www.grants.gov/applicants/get_registered.jsp.

4. Acquire Authorization for the AOR from the E-Business Point of Contact (E-Biz POC). The E-Biz POC for the applicant must log in to Grants.gov to confirm the applicant as an AOR. Please note that there can be more than one AOR.

5. Search for the Funding Opportunity on Grants.gov. Applicants for this solicitation would use the Catalog of Federal Domestic Assistance number 20.205, titled Highway Planning and Construction, when searching for the ICM Deployment Planning Grant opportunity on Grants.gov.

6. Submit an Application Addressing All of the Requirements Outlined in this Funding Availability Announcement. Within 24 to 48 hours after submitting an electronic application, applicants should receive an email validation message from Grants.gov. The validation message will specify whether the application has been received and validated or rejected, with an explanation. Applicants are encouraged to submit applications at least 72 hours prior to the due date of the application to allow time to receive the validation message and to correct any problems that may have caused a rejection notification.

Note: When uploading attachments, applicants should use generally accepted formats such as .pdf, .doc, and .xls. While applicants may imbed picture files such as .jpg, .gif, .bmp, in your files, they should not save and submit the attachment in these formats. Additionally, the following formats will not be accepted: .com, .bat, .exe, .vbs, .cfg, .dat, .db, .dbf, .dll, .ini, .log, .ora, .sys, and .zip.

Experiencing Unforeseen Grants.gov Technical Issues

If an applicant experiences unforeseen Grants.gov technical issues beyond its control that prevent the submission of an application by the established deadline, such applicant must contact Grants.gov.

To ensure a fair competition for limited ICM Deployment Planning Grants, the following conditions are not valid reasons to permit late submissions: (1) Failure to complete the registration process before the deadline date; (2) failure to follow Grants.gov instructions on how to register and apply as posted on its Web site; (3) failure to follow all of the instructions in the funding availability notice; and (4) technical issues experienced with the applicant's computer or information technology environment.

Background

Section 53001 of MAP-21 (Pub. L. 112-141) created Section 513 of title 23, United States Code (23 U.S.C. 513) that authorizes the Secretary of Transportation to encourage and fund grants that support the deployment of ITS. The objective of the ICM Deployment Planning Grant program is to advance ICM planning and development efforts. With ICM, the various partner agencies manage the transportation corridor as a system, rather than the more traditional approach of managing individual assets. They work together to manage the corridor as an integrated system in order to improve travel time reliability and predictability, help manage congestion, and empower travelers through better information and more choices. This objective is consistent with the MAP-21 emphasis on accelerating technology and innovation deployment, and will contribute to agencies' ability to meet the system performance goals called for in MAP-21. It will be achieved by providing funding to support the recipients' application of ICM Knowledge and Technology Transfer (KTT) products including: ICM Implementation Guidance; Analysis, Modeling, and Simulation Guidance; Model System Engineering documents; and technology transfer activities such as technical support workshops and peer-to-peer support.

The expected output from a grant recipient would be one or more of the following:

• ICM Concept of Operations (ConOps);

• ICM System Requirements Specifications (SyRS);

• ICM Analysis, Modeling, and Simulation (AMS) Plan;

• ICM AMS Activity Findings Report; or

• ICM Implementation Plan.

Each funding recipient should also develop or update a Project Management Plan (PMP) and a System Engineering Management Plan (SEMP). These plans should be finalized and provided to the FHWA before initiation of any other activity funded through the formal agreement.

Each funding recipient should also provide a brief final report summarizing the effectiveness of the applicable KTT products in supporting their ICM development efforts.

Only one entity should be identified as the funding recipient for grant administration purposes. This entity is expected to coordinate with all appropriate transportation stakeholders, and is responsible for managing the grant and meeting the grant requirements to be defined in a formal agreement. Potential funding recipients may differ in their immediate technical or institutional need or challenge; therefore, the approach to advancing ICM and the expected output may differ.

More information on the ICM research initiative can be found at http://www.its.dot.gov/icms/index.htm.

Grant recipients are expected to meet a variety of basic qualifications. These ensure that grant recipients are capable of implementing ICM in their chosen corridor. Basic qualifications cover requisite technology and characteristics of the corridor such as:

1. Existing System Technology Base—participating agencies should have a basic level of management and operations capability upon which to build. Applicants should describe the base level of technology in place in the specified corridor (See items 2 and 5 under How to Apply). This could include communications, data, data sharing, traffic management strategies, demand management strategies, traveler information, real-time corridor performance measurement, and analytical tools.

2. Alternate Routes or Modal Alternatives—the specified corridor should contain alternate routes to enable rerouting of traffic or alternative modes of travel (e.g., transit bus, rail, or HOV/HOT lanes). The applicant should discuss and address this requirement in the proposal (see items 1 and 2 under How to Apply).

3. Performance Issues—the specified corridor should have a variety of performance issues that can be addressed by integrated corridor management strategies. These issues should be identified and assessed by the applicant in the proposal (see item 3 under How to Apply). Examples include:

a. Congestion and system reliability—the specified corridor may contain considerable periods of congestion and unreliable travel times along critical corridor routes including transit routes; travelers may not have sufficient access to corridor performance information in order to make informed travel choices routinely or in certain situations.

b. Transit system reliability—performance of transit services in the specified corridor may be degraded due to other factors affecting performance of the corridor; the transit system may not have sufficient capacity or capability to meet unusual spikes in demand.

c. Commercial Vehicles—the specified corridor may contain considerable freight demands affecting the performance of the corridor.

d. Safety—the specified corridor may contain considerable safety issues caused by variable traffic demand, incidents, construction, weather, or other environmental or operational conditions affecting the performance of the corridor.

4. Institutional relationships and agreements—the transportation agencies with operational responsibility in the corridor should have a minimum level of institutional coordination that would indicate the potential success of ICM.

How To Apply

Formal proposals should include the following:

1. Description of the corridor—geography, State(s) involved, metropolitan area(s) encompassed, and other relevant information which the proposer deems important.

2. Transportation assets—describe the transportation assets, modes, and facilities within the corridor that the proposal will impact, including major highways, arterials, transit facilities, and existing ITS infrastructure.

3. Performance issues facing the corridor—types of transportation challenges facing the efficient and effective operation and management of transportation facilities and services in the corridor.

4. Membership of the existing or proposed organization that will lead to the development and operation of ICM—including specific organizations such as transportation agencies, State safety enforcement agencies, MPOs, tolling authorities, transit operators, etc., and existing or proposed charter, governance, and/or procedural documentation. All transportation agencies with operational responsibility in the corridor should be included. The application should demonstrate an inclusion and coordination of transportation facility owners and operators within and adjacent to the proposed corridor. Proposers do not necessarily have to have formed an existing corridor organization or coalition but should show evidence that a cooperative agreement, memorandum of understanding, or other organizational mechanism can be executed in a reasonable timeframe after selection.

5. Extent to which member agencies have integrated decisionmaking, operational, and data systems. This includes, but is not limited to, coordination or integration for routine operations, incident management, and other operational situations.

6. Related projects or programs in the Long Range Statewide Transportation Plan (LRSTP), Statewide Transportation Improvement Program (STIP), Metropolitan Transportation Plan (MTP), Transportation Improvement Plan (TIP), or Unified Planning Work Program (UPWP).

7. The vision of the organization and goals, objectives, and activities to be pursued in addressing the identified issues and challenges facing the corridor including a discussion of how the grant will accelerate or facilitate the achievement of the overall vision.

8. In order to demonstrate the success of the grant program the proposals should define project success factors and key performance indicators.

9. Initial Scope and Funding request—A complete list of activities to be funded by the request. The applicant must follow the systems engineering process as presented in FHWA's System Engineering Guidebook (http://www.fhwa.dot.gov/cadiv/segb/). The applicant must have in place a Project PMP and SEMP. If a PMP and/or a SEMP are not in place the recipient must develop or update a PMP and/or SEMP as part of this award.

10. The applicant should develop one or more of the following: ICM Concept of Operations, ICM System Requirements, ICM Analysis, Modeling and Simulation Plan, ICM Analysis, Modeling, and Simulation Activity Findings Report, or an ICM Implementation Plan.

a. In order to request funding for ICM Concept of Operations, the applicant should demonstrate the development of a multiagency and/or multimodal stakeholder group. The establishment of a multiagency and/or multimodal stakeholder group for the specified corridor should be demonstrated and approved by FHWA prior to reimbursement of any work effort on the ICM concept of operations

b. In order to request funding for ICM System Requirements, the applicant should show the development of a Concept of Operations. The ConOps should be completed and approved by FHWA prior to FHWA reimbursement of any work effort on ICM System Requirements.

c. In order to request funding for ICM Analysis, Modeling, and Simulation Plan or Activity, the applicant should the show the initiation or completion of a ConOps. The ConOps should be completed and approved by FHWA prior to FHWA reimbursement of any work effort on ICM Analysis, Modeling, and Simulation plan or activity.

d. In order to request funding for ICM Implementation Plan the applicant should show the initiation or completion of a ConOps and have an analysis approach established.

11. The proposal should include organizations and key staff involved, estimated costs, an identification of all funding sources that will supplement the requested funds and will be necessary to fully fund the request, and a timeline for completion of the activities to be supported. The maximum amount of funding requested from the ICM Deployment Planning Grant program should not exceed $200,000 nor should it exceed 80 percent of the total cost of the activities proposed to be funded by the ICM Deployment Planning Grant program. The proposal should identify the party or parties to the award, including a description of the entity that will be entering into the agreement with FHWA, and a description of how that entity will process or manage the program funds. The term “eligible entity” means a State or local government, tribal government, transit agency, public toll authority, MPO, other political subdivision of a State or local government, or a multistate or multijurisdictional group applying through a single lead applicant.¹ Only one entity should be identified as the lead for grant administration purposes. Other transportation agencies are expected to partner with eligible entities to submit an application. (FHWA plans to administer these grants through the appropriate FHWA Division Offices.)

¹ 23 U.S.C. 513(a)(1).

12. Proposals should include a description of the basic approach for an optional phase two deployment project. This should include, at a minimum, an implementation plan (or the approach to develop the implementation plan), and the relationship to the success factors identified above. If the DOT elects to proceed with phase two, it will provide a complete request for applications at that time. Proposals should not exceed 25 pages in length. Additional information supporting the application, such as maps, completed ICM planning documents, technical information, and letters of endorsement may be submitted as addenda to the application and will not count against the application page limit.

To ensure that all proposals receive fair and equal consideration for the limited available funds, the Department requires formal grant applications to be submitted to http://www.grants.gov by close of business December 31, 2013.

Application for Optional Phase Two: How To Apply

Upon the request of the DOT, successful initial recipients may submit an application for optional phase two funding. In addition to the information included in the initial application, the phase two application is expected to include, at a minimum:

1. Deployment project goals and objectives;

2. Description of deployment;

3. Approach to deployment design, build, and operate;

4. Development and application of analytical tools;

5. Schedule;

6. Risk mitigation summary; and

7. Scope.

Evaluation Criteria for Phase One

The ICM program has identified a series of criteria to help assess the potential for ICM in a corridor or region, and prioritize grant applicants. These criteria are intended to gauge how successful a potential grant recipient will be in delivering the expected output as described above. In addition, these criteria are intended to enable the ICM Program to prioritize among grant applicants. Listed in order of importance:

1. Overall effectiveness—how well the vision of the organization and the activities proposed address the transportation issues and challenges in the corridor, provide an integrated management perspective, and align with DOT goals.

2. Institutional collaboration—depth, clarity, and potential effectiveness of the organization's structure; evidence of commitments by key partners to participate.

3. Integrated strategies and systems—the level of integration and coordination already demonstrated for routine operations, incident management, and other operational conditions of the corridor. This criterion also incorporates data sharing among involved agencies.

4. Performance issues assessment—the identification and qualitative or quantitative assessment of the performance issues in the specified corridor to be addressed by the integrated corridor management system.

5. Availability and diversity of alternative routes or modes of travel in the specified corridor—enabling realistic options for travelers or freight providers.

6. Safety and weather—inclusion of safety issues on corridor; and safety and mobility impacts due to weather or environmental conditions considerations in the program or project.

7. Commercial vehicles—inclusion of commercial vehicle demand and freight movement considerations in the program or project.

8. Past Performance Related to ITS deployment—relevant examples of how the applicants have deployed, operated, and maintained ITS solutions that continue to provide safety, efficiency, mobility, and other benefits to corridor stakeholders and the general public.

Evaluation Criteria for Optional Phase Two Funding

In addition to the evaluation criteria for the initial funding, the following criteria may be used to evaluate optional phase two funding.

1. Performance indicators—How well did the phase one deliverable meet the project success factors and key performance indicators identified in the initial application.

2. Potential benefits—Potential of the system to demonstrate measureable benefits including availability of measurable objectives for ICM within the corridor; use of appropriate ITS strategies for implementation, matched to goals and objectives for the Demonstration System; and well-defined and appropriate corridor-level performance measures.

3. Alignment of deployment project to goals and objectives in the LRSTP, STIP, MTP, TIP, or UPWP.

4. Quality of the proposed deployment—Clarity and depth of understanding documented in the ConOps; Quality of the SyRS; Documented understanding of the complexity of the proposed integration of all new and existing subsystems for an ICMS; Description and availability of data required to calculate performance measures; Clear identification of standards necessary to support an ICMS.

5. ICM Implementation Plan—Overall approach for the implementation of ICM including the quality of the implementation schedule; i.e., the realism of the project schedule, and the relative size of the risks associated with the system implementation and clear ability to mitigate the risk factors.

Post-Submission Process

Applicants may be contacted for additional information or clarification. The application should include a primary point of contact and provide complete contact information for this individual.

The Department may pursue partial funding of applications.

If selected for funding, a formal agreement will be prepared between the Department and the lead agency applicant. The agreement will include information in addition to what has already been provided in the applications, such as a refined and more detailed scope of work.

Issued on: October 21, 2013.
Victor M. Mendez,
FHWA Administrator.

[FR Doc. 2013-26057 Filed 10-31-13; 8:45 am]

BILLING CODE 4910-22-P